ENVIRONMENTAL PROTECTION AGENCY

[EPA R9-2017-04; FRL-9967-31-Region 9]

Notice of Proposed Administrative Settlement Agreement and Order on Consent for Removal Action for the Cordero-McDermitt Calcine Pile Site, McDermitt, Nevada

AGENCY: Environmental Protection Agency (EPA).

ACTION: Notice of proposed settlement; request for public comment.

SUMMARY: In accordance with the Comprehensive Environmental Response, Compensation and Liability Act of 1980, as amended (“CERCLA”), notice is hereby given that the Environmental Protection Agency (“EPA”), United States Department of the Interior (“DOI”) and Bureau of Land Management (“BLM”), an agency of DOI, have entered into a proposed settlement, embodied in an Administrative Settlement Agreement and Order on Consent for Removal Action (“Settlement Agreement”), with Barrick Gold, U.S., Inc. (“Barrick”). Under the Settlement Agreement, Barrick agrees to carry out a removal action involving the grading, capping and fencing of a mercury calcine tailings pile located at the former Cordero and McDermitt mercury mine sites near McDermitt, Nevada. In addition, Barrick agrees to pay EPA compromised past costs incurred by EPA at the site and future response costs incurred by BLM and EPA during the cleanup.

DATES: Comments must be received on or before October 23, 2017.

ADDRESSES: The Settlement Agreement is available for public inspection at the United States Environmental Protection Agency, Superfund Records Center, 75 Hawthorne Street, Room 3110, San Francisco, California 94105. Telephone: 415-947-8717. Comments should be addressed to Larry Bradfish, Assistant Regional Counsel, Office of Regional Counsel (ORC-3), U.S. Environmental Protection Agency, 75 Hawthorne Street, San Francisco, CA 94105; or Email: bradfish.larry@epa.gov; and should reference the Cordero-McDermitt Mine Calcine Pile Site, EPA R9-2017-04. EPA's response to any comments received will be available for public inspection at the same address.

FOR FURTHER INFORMATION CONTACT: Larry Bradfish, Assistant Regional Counsel (ORC-3), Office of Regional Counsel, U.S. EPA Region IX, 75 Hawthorne Street, San Francisco, CA 94105; Email: bradfish.larry@epa.gov; Phone (415) 972-3934.

SUPPLEMENTARY INFORMATION: Notice of this proposed administrative settlement is made in accordance with the Section 122(i) of CECLA. The Settlement Agreement concerns work to be done by Barrick in connection with the Cordero-McDermitt Calcine Pile Site (“Site”), located near the town of McDermitt, Nevada. Parties to the Settlement Agreement include the EPA, BLM, DOI, and Barrick. The Site that is the subject of this Settlement Agreement includes all portions of the Cordero Mercury Mine calcine tailings pile where CERCLA hazardous substances are located. Under this Settlement Agreement, Barrick agrees to carry out a removal action involving the grading, capping and fencing of the calcine tailings pile. The performance of this work by Barrick shall be approved and monitored by BLM in consultation with DOI and EPA. The settlement includes a covenant not to sue Barrick pursuant to Sections 106 or 107(a) of CERCLA.

Under the Settlement Agreement, Barrick also agrees to pay EPA $230,000 in past response costs. This represents a compromise payment for past costs incurred by EPA. In addition, Barrick agrees to pay BLM $50,000 in prepayment of anticipated future response costs. Both EPA and BLM are entitled to reimbursement of additional future response costs, but EPA will not seek reimbursement for the first $30,000 of any future response costs that it incurs. EPA will consider all comments received on the Settlement Agreement in accordance with the DATES and ADDRESSES sections of this Notice and may modify or withdraw its consent to the Settlement Agreement if comments received disclose facts or considerations that indicate that the settlement is inappropriate, improper, or inadequate.

Dated: August 16, 2017.
Enrique Manzanilla,
Director, Superfund Division, EPA Region 9.

[FR Doc. 2017-20161 Filed 9-20-17; 8:45 am]

BILLING CODE 6560-50-P